DEPARTMENT OF COMMERCE

International Trade Administration

[A-602-812, A-351-862, A-122-871, A-201-863, A-421-818, A-791-829, A-583-878, A-489-855, A-520-811, A-552-843]

Corrosion-Resistant Steel Products From Brazil and Mexico: Amended Final Antidumping Duty Determination; Corrosion-Resistant Steel Products From Australia, Brazil, Canada, Mexico, the Netherlands, South Africa, Taiwan, the Republic of Türkiye, the United Arab Emirates, and the Socialist Republic of Vietnam: Antidumping Duty Orders

AGENCY: Enforcement and Compliance, International Trade Administration, Department of Commerce.

SUMMARY: Based on affirmative final determinations by the U.S. Department of Commerce (Commerce) and the U.S. International Trade Commission (ITC), Commerce is issuing the antidumping duty (AD) orders on corrosion-resistant steel products (CORE) from Australia, Brazil, Canada, Mexico, the Netherlands, South Africa, Taiwan, the Republic of Türkiye (Türkiye), the United Arab Emirates, and the Socialist Republic of Vietnam (Vietnam). In addition, Commerce is amending its final determinations of sales at less than fair value (LTFV) with respect to CORE from Brazil and Mexico to correct ministerial errors.

DATES: Applicable December 19, 2025.

FOR FURTHER INFORMATION CONTACT: Krisha Hill (Australia), Office IV, telephone: (202) 482-4037; Nathan Araya (Brazil), Office II, telephone: (202) 482-3401; Reginald Anadio (Canada), Office IV, telephone: (202) 482-3166; Brian Smith (Mexico), Office VIII, telephone: (202) 482-1766; Rachel Jennings (Netherlands), Office V, telephone: (202) 482-1110; Jacob Saude (South Africa), Office VII, telephone: (202) 482-0981; Preston Cox (Taiwan), Office VI, telephone: (240) 956-8630; Olivia Woolverton (Türkiye), Office V, telephone: (202) 482-7452; Jose Rivera (United Arab Emirates), Office VII, telephone: (202) 482-0842; Jacob Waddell (Vietnam), Office VI, telephone: (202) 482-1369; AD/CVD Operations, Enforcement and Compliance, International Trade Administration, U.S. Department of Commerce, 1401 Constitution Avenue NW, Washington, DC 20230.

SUPPLEMENTARY INFORMATION:

Background

On August 29, 2025, Commerce published its affirmative final determinations in the LTFV investigations of CORE from Australia, Brazil, Canada, Mexico, the Netherlands, South Africa, Taiwan, Türkiye, the United Arab Emirates, and Vietnam in accordance with sections 735(d) and 777(i) of the Tariff Act of 1930, as amended (the Act).¹ In the LTFV investigations of CORE from Brazil and Mexico, interested parties timely alleged that Commerce made certain ministerial errors. See “Amendment to the Brazil Final Determination of Sales at Less than Fair Value” and “Amendment to the Mexico Final Determination of Sales at Less than Fair Value” sections below for further discussion.

¹ See Certain Corrosion-Resistant Steel Products from Australia: Final Affirmative Determination of Sales at Less than Fair Value, 90 FR 42189 (August 29, 2025); Certain Corrosion-Resistant Steel Products from Brazil: Final Affirmative Determination of Sales at Less than Fair Value, 90 FR 42219 (August 29, 2025) (Brazil Final Determination); Certain Corrosion-Resistant Steel Products from Canada: Final Affirmative Determination of Sales at Less than Fair Value, 90 FR 42194 (August 29, 2025); Certain Corrosion-Resistant Steel Products from Mexico: Final Affirmative Determination of Sales at Less than Fair Value, 90 FR 42187 (August 29, 2025) (Mexico Final Determination); Certain Corrosion-Resistant Steel Products from the Netherlands: Final Affirmative Determination of Sales at Less than Fair Value, 90 FR 42213 (August 29, 2025); Certain Corrosion-Resistant Steel Products from South Africa: Final Affirmative Determination of Sales at Less than Fair Value and Final Affirmative Determination of Critical Circumstances, in Part, 90 FR 42198 (August 29, 2025); Certain Corrosion-Resistant Steel Products from Taiwan: Final Affirmative Determination of Sales at Less than Fair Value, 90 FR 42210 (August 29, 2025); Certain Corrosion-Resistant Steel Products from the Republic of Türkiye: Final Affirmative Determination of Sales at Less than Fair Value, 90 FR 42216 (August 29, 2025); Certain Corrosion-Resistant Steel Products from the United Arab Emirates: Final Affirmative Determination of Sales at Less than Fair Value and Final Negative Determination of Critical Circumstances, 90 FR 42226 (August 29, 2025); Certain Corrosion-Resistant Steel Products from the Socialist Republic of Vietnam: Final Affirmative Determination of Sales at Less than Fair Value, 90 FR 42223 (August 29, 2025) (collectively, Final Determinations).

On November 28, 2025, pursuant to sections 735(d) of the Act, the ITC notified Commerce of its final affirmative determinations that an industry in the United States is materially injured within the meaning of section 735(b)(1)(A)(i) of the Act by reason of dumped imports of CORE from Australia, Brazil, Canada, Mexico, the Netherlands, South Africa, Taiwan, Türkiye, the United Arab Emirates, and Vietnam.²

² See ITC's Letter, “Notification of ITC Final Determinations,” dated November 28, 2025 (ITC Notification Letter).

Scope of the Orders

The product covered by these orders is CORE from Australia, Brazil, Canada, Mexico, the Netherlands, South Africa, Taiwan, Türkiye, the United Arab Emirates, and Vietnam. For a complete description of the scope of the orders, see the appendix to this notice.

Amendment to the Final Determination of Sales at LTFV for Brazil

We determine that we made a ministerial error in the final determination of sales at LTFV for Brazil. Pursuant to 19 CFR 351.224(e), and as explained further in the Brazil Ministerial Error Memorandum,³ Commerce is amending the Brazil Final Determination to reflect the correction of a ministerial error.⁴ Correction of this error changes the final AD adjusted cash deposit rate for Usiminas Siderugicas de Minas Gerais S.A., as well as the cash deposit rate for all other producers and exporters not individually investigated. The revised rates are listed in the “Estimated Weighted-Average Dumping Margins” section, below.

³ See Memorandum, “Less-Than-Fair-Value Investigation of Certain Corrosion-Resistant Steel from Brazil: Analysis of Ministerial Error Allegations,” September 16, 2025 (Brazil Ministerial Error Memorandum).

⁴ Id.

Amendment to the Final Determination of Sales at LTFV for Mexico

We determine that we made a ministerial error in the final determination of sales at LTFV for Mexico. Pursuant to 19 CFR 351.224(e), and as explained further in the Mexico Ministerial Error Memorandum,⁵ Commerce is amending the Mexico Final Determination to reflect the correction of a ministerial error.⁶ Correction of this error changes the final AD adjusted cash deposit rate for Galvasid S.A. de C.V./Perfiles LM, S.A. de C.V., as well as the cash deposit rate for all other producers and exporters not individually investigated. The revised rates are listed in the “Estimated Weighted-Average Dumping Margins” section, below.

⁵ See Memorandum, “Less-Than-Fair-Value Investigation of Certain Corrosion-Resistant Steel from Mexico: Allegation of Ministerial Error in the Final Determination,” dated concurrently with this notice (Mexico Ministerial Error Memorandum).

⁶ Id.

AD Orders

Based on the above-referenced affirmative final determinations, in accordance with section 735(c)(2) of the Act, Commerce is issuing these AD orders. Because the ITC determined that an industry in the United States is materially injured by reason of imports of CORE from Australia, Brazil, Canada, Mexico, the Netherlands, South Africa, Taiwan, Türkiye, the United Arab Emirates, and Vietnam, unliquidated entries of such merchandise from these countries, entered or withdrawn from warehouse for consumption, are subject to the assessment of antidumping duties.

Therefore, in accordance with section 736(a)(1) of the Act, Commerce will direct U.S. Customs and Border Protection (CBP) to assess, upon further instruction by Commerce, antidumping duties equal to the amount by which the normal value of the merchandise exceeds the export price (or constructed export price) of the merchandise on all relevant entries of CORE from Australia, Brazil, Canada, Mexico, the Netherlands, South Africa, Taiwan, Türkiye, the United Arab Emirates, and Vietnam. Antidumping duties will be assessed on unliquidated entries of CORE entered, or withdrawn from warehouse, for consumption on or after April 10, 2025, the date of publication of the Preliminary Determinations,⁷ but will not include entries occurring after the expiration of the provisional measures period and before publication of the ITC's final injury determination, as further described below.

⁷ See Certain Corrosion-Resistant Steel Products from Australia: Preliminary Affirmative Determination of Sales at Less than Fair Value, Postponement of Final Determination, and Extension of Provisional Measures, 90 FR 15347 (April 10, 2025); Certain Corrosion-Resistant Steel Products from Brazil: Preliminary Affirmative Determination of Sales at Less than Fair Value, Postponement of Final Determination, and Extension of Provisional Measures, 90 FR 15333 (April 10, 2025); Certain Corrosion-Resistant Steel Products from Canada: Preliminary Affirmative Determination of Sales at Less than Fair Value, Postponement of Final Determination, and Extension of Provisional Measures, 90 FR 15337 (April 10, 2025); Certain Corrosion-Resistant Steel Products from Mexico: Preliminary Affirmative Determination of Sales at Less than Fair Value, Postponement of Final Determination, and Extension of Provisional Measures, 90 FR 15349 (April 10, 2025); Certain Corrosion-Resistant Steel Products from the Netherlands: Preliminary Affirmative Determination of Sales at Less than Fair Value, Postponement of Final Determination, and Extension of Provisional Measures, 90 FR 15352 (April 10, 2025); Certain Corrosion-Resistant Steel Products from South Africa: Preliminary Affirmative Determination of Sales at Less than Fair Value, Postponement of Final Determination, and Extension of Provisional Measures, 90 FR 15330 (April 10, 2025); Certain Corrosion-Resistant Steel Products from Taiwan: Preliminary Affirmative Determination of Sales at Less than Fair Value, Postponement of Final Determination, and Extension of Provisional Measures, 90 FR 15359 (April 10, 2025); Certain Corrosion-Resistant Steel Products from the Republic of Türkiye: Preliminary Affirmative Determination of Sales at Less than Fair Value, Postponement of Final Determination, and Extension of Provisional Measures, 90 FR 15340 (April 10, 2025); Certain Corrosion-Resistant Steel Products from the United Arab Emirates: Preliminary Affirmative Determination of Sales at Less than Fair Value, Postponement of Final Determination, and Extension of Provisional Measures, 90 FR 15355 (April 10, 2025); Certain Corrosion-Resistant Steel Products from the Socialist Republic of Vietnam: Preliminary Affirmative Determination of Sales at Less than Fair Value, Postponement of Final Determination, and Extension of Provisional Measures, 90 FR 15343 (April 10, 2025) (collectively, Preliminary Determinations).

Suspension of Liquidation and Cash Deposits

In accordance with section 736 of the Act, Commerce intends to instruct CBP to reinstitute the suspension of liquidation and continue the suspension of liquidation, as applicable, on all relevant entries of CORE from Australia, Brazil, Canada, Mexico, the Netherlands, South Africa, Taiwan, Türkiye, the United Arab Emirates, and Vietnam, effective on the date of publication of the ITC's final affirmative injury determination in the Federal Register. Commerce also intends to instruct CBP to require cash deposits equal to the estimated weighted-average dumping margins indicated in the table below. These instructions suspending liquidation and cash deposit requirements will remain in effect until further notice.

Commerce also intends to instruct CBP to require cash deposits equal to the estimated weighted-average dumping margins indicated in the tables below, adjusted by the relevant subsidy offsets. Accordingly, effective on the date of publication in the Federal Register of the notice of the ITC's final affirmative injury determination, CBP will require, at the same time as importers would normally deposit estimated customs duties on subject merchandise, a cash deposit equal to the dumping rates listed in the tables below. The all-others rate for each country applies to all producers or exporters not specifically listed, as appropriate.

Critical Circumstances

Because the final critical circumstances determination for CORE from the United Arab Emirates was negative, in accordance with section 735(c)(3) of the Act, we will instruct CBP to terminate the retroactive suspension of liquidation ordered at the Preliminary Determination for all other producers/exporters and to refund any cash deposits required with respect to entries of subject merchandise covered by the retroactive suspension of liquidation.

Estimated Weighted-Average Dumping Margins

The estimated weighted-average dumping margins are as follows:

Australia
Exporter/producer | Weighted-average dumping margin (percent)
BlueScope Steel Ltd./BlueScope Distribution Pty Ltd./Fielders Manufacturing Pty Ltd./Lysaght Building Solutions Pty Ltd | 19.10
All Others | 19.10

Brazil
Exporter/producer | Dumping rate (percent) | Cash deposit rate adjusted for subsidy offset(s)) (percent)
Companhia Siderugica Nacional; Companhia Metalurgica Prada | 191.26 | 191.26
Usinas Siderurgicas de Minas Gerais S.A.; Unigal Ltda.; Soluçoes em Aco Usiminas | 26.15 | 22.22
All Others | 161.52 | 157.59

Canada
Exporter/producer | Dumping rate (percent) | Cash deposit rate adjusted for subsidy offset(s)) (percent)
ArcelorMittal Dofasco G.P./ArcelorMittal Coteau-du-Lac Limited Partnership | 5.59 | 5.59
Stelco Inc | 8.13 | 8.13
Nova Steel Inc | * 52.08 | 50.25
All Others | 5.79 | 5.79
* Rate based on facts available with adverse inferences.

Mexico
Exporter/producer | Dumping rate (percent) | Cash deposit rate adjusted for subsidy offset(s)) (percent)
Galvasid S.A. de C.V./Perfiles LM, S.A. de C.V | 24.09 | 24.09
Ternium Mexico S.A. de C.V./Tenigal, S.de R.L. de C.V | 14.17 | 1.07
All Others | 17.42 | 4.32

The Netherlands
Exporter/producer | Weighted-average dumping margin (percent)
Tata Steel IJmuiden BV/Wuppermann Staal Nederland BV/Service Center Maastricht BV | 22.64
All Others | 22.64

South Africa
Exporter/producer | Weighted-average dumping margin (percent)
Duferco Steel Processing PTY Ltd | 19.21
All Others | 19.21

Taiwan
Exporter/producer | Weighted-average dumping margin (percent)
Yieh Phui Enterprise Co., Ltd | 10.85
Sheng Yu Steel Co. Ltd | * 67.81
Kounan Steel Co. Ltd | * 67.81
Meglobe Co. Ltd | * 67.81
All Others | 10.85
* Rate based on facts available with adverse inferences.

Türkiye
Exporter/producer | Weighted-average dumping margin (percent)
Borcelik Celik Sanayii Ticaret AS, ArcelorMittal Çelik Ticaret A.Ş., Bamesa Celik Servıs San. Ve Tic. A.Ş. and Bamesa Muradiye Demir Çelik San. Ve Tic. A.Ş | 6.48
Yıldız Demir Çelik Sanayi A.S., and Yıldız Entegre Ağaç Sanayi ve Ticaret A.S | 10.49
All Others | 8.06

United Arab Emirates
Exporter/producer | Weighted-average dumping margin (percent)
Al Ghurair Iron & Steel LLC | 7.20
United Iron & Steel Company LLC/United Metal Coating | 16.38
All Others | 8.40

Vietnam
Exporter | Producer | Dumping rate (percent) | Cash deposit rate adjusted for subsidy offset(s)) (percent)
Hoa Sen Group/Hoa Sen Nghe An One Member Limited Liabilities Company/Hoa Sen Nhon Hoi—Binh Dinh One Member Limited Liabilities Company | Hoa Sen Group/Hoa Sen Nghe An One Member Limited Liabilities Company/Hoa Sen Nhon Hoi—Binh Dinh One Member Limited Liabilities Company | 110.19 | 110.19
Ton Dong A Corporation | Ton Dong A Corporation | 87.07 | 87.07
China Steel and Nippon Steel Viet Nam Joint Stock Company | China Steel and Nippon Steel Viet Nam Joint Stock Company | 94.89 | 94.89
Hoa Phat Steel Sheet Limited Liability Company | Hoa Phat Steel Sheet Limited Liability Company | 94.89 | 94.89
Maruichi Sun Steel Joint Stock Company | Maruichi Sun Steel Joint Stock Company | 94.89 | 94.89
Nam Kim Steel Joint Stock Company | Nam Kim Steel Joint Stock Company | 94.89 | 94.89
Pomina Flat Steel Joint Stock Company | Pomina Flat Steel Joint Stock Company | 94.89 | 94.89
Sam Hwan Vina Co., Ltd | Sam Hwan Vina Co., Ltd | 94.89 | 94.89
Southern Steel Sheet Co., Ltd | Southern Steel Sheet Co., Ltd | 94.89 | 94.89
Tay Nam Steel Manufacturing & Trading Co., Ltd | Tay Nam Steel Manufacturing & Trading Co., Ltd | 94.89 | 94.89
TVP Steel Trading Joint Stock Company | TVP Steel Trading Joint Stock Company | 94.89 | 94.89
Viet Phap Steel Corrugated Joint Stock Company | Viet Phap Steel Corrugated Joint Stock Company | 94.89 | 94.89
Vietnam-Wide Entity |  | * 162.96 | * 162.96
* Rate based on facts available with adverse inferences.

Provisional Measures

Section 733(d) of the Act states that suspension of liquidation pursuant to an affirmative preliminary determination may not remain in effect for more than four months, except where exporters representing a significant proportion of exports of the subject merchandise request that Commerce extend the four-month period to no more than six months. At the request of exporters that accounted for a significant proportion of exports of CORE from Australia, Brazil, Canada, Mexico, the Netherlands, South Africa, Taiwan, Türkiye, the United Arab Emirates, and Vietnam, Commerce extended the four-month period to no more than six-months.⁸

⁸ See Preliminary Determinations.

In the underlying investigations, Commerce published the Preliminary Determinations on April 10, 2025. Therefore, the six-month period beginning on the date of the publication of the AD Preliminary Determinations ended on October 6, 2025. Therefore, in accordance with section 733(d) of the Act and our practice, Commerce will instruct CBP to terminate the suspension of liquidation and to liquidate, without regard to antidumping duties, unliquidated entries of CORE from Australia, Brazil, Canada, Mexico, the Netherlands, South Africa, Taiwan, Türkiye, the United Arab Emirates, and Vietnam entered, or withdrawn from warehouse, for consumption on or after October 7, 2025, the day on which the provisional AD measures expired, until and through the day preceding the date of publication of the ITC's final injury determinations in the Federal Register. Suspension of liquidation and the collection of cash deposits will resume on the date of publication of the ITC's final determinations in the Federal Register.

Establishment of the Annual Inquiry Service Lists

On September 20, 2021, Commerce published the Final Rule in the Federal Register.⁹ On September 27, 2021, Commerce also published the Procedural Guidance in the Federal Register.¹⁰ The Final Rule and Procedural Guidance provide that Commerce will maintain an annual inquiry service list for each order or suspended investigation, and any interested party submitting a scope ruling application or request for circumvention inquiry shall serve a copy of the application or request on the persons on the annual inquiry service list for that order, as well as any companion order covering the same merchandise from the same country of origin.

⁹ See Regulations to Improve Administration and Enforcement of Antidumping and Countervailing Duty Laws, 86 FR 52300 (September 20, 2021) (Final Rule).

¹⁰ See Scope Ruling Application; Annual Inquiry Service List; and Informational Sessions, 86 FR 53205 (September 27, 2021) (Procedural Guidance).

In accordance with the Procedural Guidance, for orders published in the Federal Register after November 4, 2021, Commerce will create an annual inquiry service list segment in Commerce's online e-filing and document management system, Antidumping and Countervailing Duty Electronic Service System (ACCESS), available at https://access.trade.gov, within five business days of publication of the notice of the order. Each annual inquiry service list will be saved in ACCESS, under each case number, and under a specific segment type called “AISL-Annual Inquiry Service List.” ¹¹

¹¹ This segment will be combined with the ACCESS Segment Specific Information (SSI) field which will display the month in which the notice of the order or suspended investigation was published in the Federal Register, also known as the anniversary month. For example, for an order under case number A-000-000 that was published in the Federal Register in January, the relevant segment and SSI combination will appear in ACCESS as “AISL-January Anniversary.” Note that there will be only one annual inquiry service list segment per case number, and the anniversary month will be pre-populated in ACCESS.

Interested parties who wish to be added to the annual inquiry service list for an order must submit an entry of appearance to the annual inquiry service list segment for the order in ACCESS within 30 days after the date of publication of the order. For ease of administration, Commerce requests that law firms with more than one attorney representing interested parties in an order designate a lead attorney to be included on the annual inquiry service list. Commerce will finalize the annual inquiry service list within five business days thereafter. As mentioned in the Procedural Guidance,¹² the new annual inquiry service list will be in place until the following year, when the Opportunity Notice for the anniversary month of the order is published.

¹² See Procedural Guidance, 86 FR at 53206.

Commerce may update an annual inquiry service list at any time as needed based on interested parties' amendments to their entries of appearance to remove or otherwise modify their list of members and representatives, or to update contact information. Any changes or announcements pertaining to these procedures will be posted to the ACCESS website.

Special Instructions for the Petitioners and Foreign Governments

In the Final Rule, Commerce stated that, “after an initial request and placement on the annual inquiry service list, both petitioners and foreign governments will automatically be placed on the annual inquiry service list in the years that follow.” ¹³ Accordingly, as stated above, the petitioners and the Governments of Australia, Brazil, Canada, Mexico, the Netherlands, South Africa, Taiwan, Türkiye, the United Arab Emirates, and Vietnam should submit their initial entries of appearance after publication of this notice in order to appear in the first annual inquiry service lists for these orders. Pursuant to 19 CFR 351.225(n)(3), the petitioners and the Governments of Australia, Brazil, Canada, Mexico, the Netherlands, South Africa, Taiwan, Türkiye, the United Arab Emirates, and Vietnam will not need to resubmit their entries of appearance each year to continue to be included on the annual inquiry service list. However, the petitioners and the Governments of Australia, Brazil, Canada, Mexico, the Netherlands, South Africa, Taiwan, Türkiye, the United Arab Emirates, and Vietnam are responsible for making amendments to their entries of appearance during the annual update to the annual inquiry service list in accordance with the procedures described above.

¹³ See Final Rule, 86 FR at 52335.

Notification to Interested Parties

This notice constitutes the AD orders with respect to CORE from Australia, Brazil, Canada, Mexico, the Netherlands, South Africa, Taiwan, Türkiye, the United Arab Emirates, and Vietnam, pursuant to section 736(a) of the Act. Interested parties can find a list of AD and countervailing duty orders currently in effect at https://enforcement.trade.gov/stats/iastats1.html.

The amended Brazil and Mexico final determinations and these AD orders are published in accordance with sections 735(e) and 736(a) of the Act, 19 CFR 351.224(e), and 19 CFR 351.211(b).

Dated: December 15, 2025.
Christopher Abbott,
Deputy Assistant Secretary for Policy and Negotiations, performing the non-exclusive functions and duties of the Assistant Secretary for Enforcement and Compliance.

Appendix

Scope of the Orders

The products covered by these orders are certain flat-rolled steel products, either clad, plated, or coated with corrosion-resistant metals such as zinc, aluminum, or zinc-, aluminum-, nickel- or iron-based alloys, whether or not corrugated or painted, varnished, laminated, or coated with plastics or other non-metallic substances in addition to the metallic coating. The products covered include coils that have a width of 12.7 mm or greater, regardless of form of coil (e.g., in successively superimposed layers, spirally oscillating, etc.). The products covered also include products not in coils (e.g., in straight lengths) of a thickness less than 4.75 mm and a width that is 12.7 mm or greater and that measures at least 10 times the thickness. The products covered also include products not in coils (e.g., in straight lengths) of a thickness of 4.75 mm or more and a width exceeding 150 mm and measuring at least twice the thickness. The products described above may be rectangular, square, circular, or other shape and include products of either rectangular or non-rectangular cross-section where such cross-section is achieved subsequent to the rolling process, i.e., products which have been “worked after rolling” (e.g., products which have been beveled or rounded at the edges).

For purposes of the width and thickness requirements referenced above:

(1) Where the nominal and actual measurements vary, a product is within the scope if application of either the nominal or actual measurement would place it within the scope based on the definitions set forth above, and

(2) where the width and thickness vary for a specific product (e.g., the thickness of certain products with non-rectangular cross-section, the width of certain products with non-rectangular shape, etc.), the measurement at its greatest width or thickness applies.

Steel products included in the scope of these orders are products in which: (1) iron predominates, by weight, over each of the other contained elements; and (2) the carbon content is 2 percent or less, by weight.

Subject merchandise also includes corrosion-resistant steel that has been further processed in a third country, including but not limited to annealing, tempering, painting, varnishing, trimming, cutting, punching and/or slitting or any other processing that would not otherwise remove the merchandise from the scope of the orders if performed in the country of manufacture of the in-scope corrosion resistant steel.

All products that meet the written physical description are within the scope of the order unless specifically excluded. The following products are outside of and/or specifically excluded from the scope of these orders:

• Flat-rolled steel products either plated or coated with tin, lead, chromium, chromium oxides, both tin and lead (“terne plate”) or both chromium and chromium oxides (“tin free steel”), whether or not painted, varnished or coated with plastics or other non-metallic substances in addition to the metallic coating;

• Clad products in straight lengths of 4.7625 mm or more in composite thickness and of a width which exceeds 150 mm and measures at least twice the thickness;

• Certain clad stainless flat-rolled products, which are three-layered corrosion-resistant carbon steel flat-rolled products less than 4.75 mm in composite thickness that consist of a carbon steel flat-rolled product clad on both sides with stainless steel in a 20%-60%- 20% ratio; and

Also excluded from the scope of the antidumping duty order on corrosion resistant steel from Taiwan are any products covered by the existing antidumping duty order on corrosion-resistant steel from Taiwan. See Certain Corrosion-Resistant Steel Products from India, Italy, the People's Republic of China, the Republic of Korea and Taiwan: Amended Final Affirmative Antidumping Determination for India and Taiwan, and Antidumping Duty Orders, 81 FR 48390 (July 25, 2016); Corrosion-Resistant Steel Products from Taiwan: Notice of Third Amended Final Determination of Sales at Less Than Fair Value Pursuant to Court Decision and Partial Exclusion from Antidumping Duty Order, 88 FR 58245 (August 25, 2023).

Also excluded from the scope of the antidumping duty order on corrosion-resistant steel from the United Arab Emirates and the antidumping duty and countervailing duty order on corrosion-resistant steel from the Socialist Republic of Vietnam are any products covered by the existing antidumping and countervailing duty orders on corrosion-resistant steel from the People's Republic of China and the Republic of Korea and the antidumping duty order on corrosion-resistant steel from Taiwan. See Certain Corrosion-Resistant Steel Products from India, Italy, the People's Republic of China, the Republic of Korea and Taiwan: Amended Final Affirmative Antidumping Determination for India and Taiwan, and Antidumping Duty Orders, 81 FR 48390 (July 25, 2016); see also Certain Corrosion-Resistant Steel Products from India, Italy, Republic of Korea and the People's Republic of China: Countervailing Duty Order, 81 FR 48387 (July 25, 2016). This exclusion does not apply to imports of corrosion-resistant steel that are entered, or withdrawn from warehouse, for consumption in the United States for which the relevant importer and exporter certifications have been completed and maintained and all other applicable certification requirements have been met such that the entry is entered into the United States as not subject to the antidumping and countervailing duty orders on corrosion-resistant steel from the People's Republic of China, the antidumping and countervailing duty orders on corrosion-resistant steel from the Republic of Korea, or the antidumping duty order on corrosion-resistant steel from Taiwan.

The products subject to the orders are currently classified in the Harmonized Tariff Schedule of the United States (HTSUS) under item numbers: 7210.30.0030, 7210.30.0060, 7210.41.0000, 7210.49.0030, 7210.49.0040, 7210.49.0045, 7210.49.0091, 7210.49.0095, 7210.61.0000, 7210.69.0000, 7210.70.6030, 7210.70.6060, 7210.70.6090, 7210.90.6000, 7210.90.9000, 7212.20.0000, 7212.30.1030, 7212.30.1090, 7212.30.3000, 7212.30.5000, 7212.40.1000, 7212.40.5000, 7212.50.0000, 7212.60.0000, 7225.91.0000, 7225.92.0000, 7226.99.0110, and 7226.99.0130.

The products subject to the orders may also enter under the following HTSUS item numbers: 7210.90.1000, 7215.90.1000, 7215.90.3000, 7215.90.5000, 7217.20.1500, 7217.30.1530, 7217.30.1560, 7217.90.1000, 7217.90.5030, 7217.90.5060, 7217.90.5090, 7225.99.0090, 7226.99.0180, 7228.60.6000, 7228.60.8000, and 7229.90.1000.

The HTSUS subheadings above are provided for convenience and customs purposes only. The written description of the scope of the orders are dispositive.

[FR Doc. 2025-23431 Filed 12-18-25; 8:45 am]

BILLING CODE 3510-DS-P